DEPARTMENT OF COMMERCE

National Oceanic and Atmospheric Administration

50 CFR Part 622

[I.D. 091100F]

Fisheries of the Caribbean, Gulf of Mexico, and South Atlantic, Shrimp Fishery of the Gulf of Mexico; Public Hearings

AGENCY: National Marine Fisheries Service (NMFS), National Oceanic and Atmospheric Administration (NOAA), Commerce.

ACTION: Notice of public hearings; request for comments.

SUMMARY: The Gulf of Mexico Fishery Management Council (Council) will convene public hearings to review Draft Amendment 11 to the Fishery Management Plan for the Shrimp Fishery of the Gulf of Mexico (Draft Amendment 11). Draft Amendment 11 contains alternatives for requiring shrimp vessel permits, shrimp vessel registration, operator permits, and for prohibiting trap gear in the royal red shrimp fishery in the exclusive economic zone (EEZ). Public testimony will also be accepted at the Council meeting in Biloxi, MS, on November 15, 2000. A notification of the meeting time and location will be published in the Federal Register.

DATES: Written comments will be accepted until 5 p.m., November 3, 2000. The public hearings will be held from October 2 through October 26, 2000. See SUPPLEMENTARY INFORMATIONfor specific dates and times of the public hearings.

ADDRESSES:

Written comments should be sent to, and copies of Draft Amendment 11 are available from, the Gulf of Mexico Fishery Management Council, 3018 U.S. Highway 301, North, Suite 1000, Tampa, Florida 33619; telephone: (813) 228-2815.

FOR FURTHER INFORMATION CONTACT: Dr. Richard Leard, Senior Fishery Biologist, Gulf of Mexico Fishery Management Council; telephone: (813) 228-2815.

SUPPLEMENTARY INFORMATION: The public hearings will be convened to review Draft Amendment 11. This amendment contains alternatives for requiring shrimp vessel permits, shrimp vessel registration, operator permits, and for prohibiting trap gear in the royal red shrimp fishery in the EEZ.

Dates and Times of Public Hearings

Public hearings for Draft Amendment 11 will begin at 7 p.m. and end at 10 p.m. at all of the following locations:

1. Monday, October 2, 2000, 7 p.m. to 10 p.m.—Laguna Madre Learning Center Port Isabel High School, Highway 100, Port Isabel, TX 78578; telephone: 956-943-0052;

2. Wednesday, October 4, 2000, 7 p.m. to 10 p.m.—Palacios Recreation Center, 2401 Perryman, Palacios, TX 77465; telephone: 361-972-3821;

3. Thursday, October 5, 2000, 7 p.m. to 10 p.m—Victorian Hotel & Conference Center, 6300 Seawall Boulevard, Galveston, Texas 77551; telephone: 409-740-3555;

4. Friday, October 6, 2000, 7 p.m. to 10 p.m.—Police Jury Annex, Courthouse Square, 110 Smith Circle, Cameron, LA 70631; telephone: 337-775-5718;

5. Monday, October 9, 2000, 7 p.m. to 10 p.m.—Larose Regional Park, 2001 East 5th Street, Larose, LA 70373; telephone: 504-693-7355;

6. Tuesday, October 10, 2000, 7 p.m. to 10 p.m.—Mississippi Dept. of Marine Resources, 1141 Bayview Drive, Biloxi, MS 39530; telephone: 228-374-5000;

7. Tuesday, October 10, 2000, 7 p.m. to 10 p.m.—New Orleans Airport Hilton, 901 Airline Drive, Kenner, LA 70062; telephone: 504-469-5000;

8. Wednesday, October 11, 2000, 7 p.m. to 10 p.m.—Adam’s Mark Hotel & Resort, 64 South Water Street, Mobile, AL 36602; telephone: 334-438-4000;

9. Thursday, October 12, 2000, 7 p.m. to 10 p.m.—Franklin County Courthouse, 33 Market Street, Apalachicola, FL 32320; telephone: 850-653-8861;

10. Monday, October 23, 2000, 7 p.m. to 10 p.m.—Holiday Inn Beachside, 3841 North Roosevelt Boulevard, Key West, FL 33040; telephone: 305-294-2571;

11. Wednesday, October 25, 2000, 7 p.m. to 10 p.m., Edison Community College, Corbin Auditorium, Room J-103, 8099 College Parkway, Fort Myers, FL 33919; telephone: 941-489-9312; and

12. Thursday, October 26, 2000, 7 p.m. to 10 p.m.—Ramada Hotel & Conference Center, 5303 West Kennedy Boulevard, Tampa, FL 33609-8964; telephone: 813-289-1950.

Special Accommodations

These meetings are physically accessible to people with disabilities. Requests for sign language interpretation or other auxiliary aids should be directed to Anne Alford at the Council (see ADDRESSES) by September 25, 2000.

Dated: September 15, 2000
Bruce C. Morehead,
Acting Director, Office of Sustainable Fisheries, National Marine Fisheries Service.

[FR Doc. 00-24301 Filed 9-20-00; 8:45 am]

BILLING CODE 3510-22-S